DEPARTMENT OF AGRICULTURE

Food Safety and Inspection Service

[Docket No. FSIS-2012-0035]

Codex Alimentarius Commission: Meeting of the Codex Committee on Fish and Fishery Products

AGENCY: Office of the Under Secretary for Food Safety, USDA.

ACTION: Notice of public meeting and request for comments.

SUMMARY: The Office of the Under Secretary for Food Safety, U.S. Department of Agriculture (USDA), National Oceanic and Atmospheric Administration (NOAA), and the Food and Drug Administration (FDA), are sponsoring a public meeting on September 6, 2012. The objective of the public meeting is to provide information and receive public comments on agenda items and draft United States (U.S.) positions that will be discussed at the 32nd session of the Codex Committee on Fish and Fishery Products (CCFFP) of the Codex Alimentarius Commission (Codex), which will be held in Bali, Indonesia from October 1-5, 2012. The Under Secretary for Food Safety, the National Oceanic and Atmospheric Administration (NOAA), and the Food and Drug Administration recognize the importance of providing interested parties the opportunity to obtain background information on the 32nd session of the CCFFP and to address items on the agenda.

DATES: The public meeting is scheduled for September 6, 2012, from 1 p.m.-3 p.m.

ADDRESSES: The public meeting will be held at the Food and Drug Administration (FDA), Center for Food Safety and Applied Nutrition (CFSAN), Wiley Building, Room 3B047, 5100 Paint Branch Parkway, College Park, MD 20740.

Documents related to the 32nd session of the CCFFP will be accessible via the World Wide Web at the following address: http://www.codexalimentarius.org/.

Timothy Hansen & Dr. William Jones, U.S. Delegates to the 32nd session of the CCFFP, invite U.S. interested parties to submit their comments electronically to the following email addresses: Timothy.Hansen@noaa.gov & William.Jones@fda.hhs.gov.

Call-In Number:

If you wish to participate in the public meeting for the 32nd session of the CCFFP by conference call, please use the call-in number and participant code listed below:

Call-in Number: 1 (866) 565-0671.

Participant code: 5968327.

For Further Information About the 32nd Session of the CCFFP Contact: Timothy Hansen, Director, Seafood Inspection Program, National Marine Fisheries Services, National Oceanic and Atmospheric Administration, 1315 East West Highway SSMC #3, Silver Spring, MD 20910, Phone: (301) 713-2355 Fax:(301) 713-1081, Email: Timothy.Hansen@noaa.gov.

Dr. William Jones, Director, Division of Seafood Safety, Office of Food Safety, (HFS-325) U.S. Food and Drug Administration, 5100 Paint Branch Parkway, College Park, MD, 20740, Phone: (240) 402-2300, Fax: (301) 436-2601, Email: William.Jones@fda.hhs.gov.

For Further Information About the Public Meeting Contact: Kenneth Lowery, U.S. Codex Office, 1400 Independence Avenue SW., Room 4861, Washington, DC 20250, Phone: (202)690-4042, Fax: (202)720-3157, Email: Kenneth.Lowery@fsis.usda.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The CCFFP is responsible for: Elaborating worldwide standards for fresh, frozen (including quick frozen) or otherwise processed fish, crustaceans and molluscs. The Committee is hosted by Norway.

Issues To Be Discussed at the Public Meeting

The following items on the agenda for the 32nd session of the CCFFP will be discussed during the public meeting:

• Matters Referred to the CCFFP by the Codex Commission and Other Codex Committees

• Matters Arising from the Work of the FAO and the WHO

• Draft Standard for Smoked Fish, Smoke-Flavored Fish and Smoke Dried Fish (held at Step 7) Section 4 Food Additives

• Draft Standard for Quick Frozen Scallop Adductor Muscle Meat

• Draft Standard for Fresh/Live and Frozen Abalone (Haliotis spp)

• Proposed Draft Code of Practice on the Processing of Scallop Meat

• Proposed Draft Performance Criteria for Reference and Confirmatory Methods for Marine Biotoxins in the Standard for Raw and Live Bivalve Molluscs

• Proposed Draft Performance Criteria for Screening Methods for Marine Biotoxins in the Standard for Raw and Live Bivalve Molluscs

• Amendment to the Standard for Quick Frozen Fish Sticks (Nitrogen Factor for Atlantic Hake)

• Proposed Draft Revision of the Procedure for the Inclusion of Additional Species in Standards for Fish and Fishery Products

• Proposed Draft Code of Practice for Fish and Fishery Products (section on Sturgeon Caviar)

• Discussion Paper on Proposed Draft Code of Practice for Fish and Fishery Products (appendices on optional final product requirements)

• Proposed Food Additive Provisions in Standards for Fish and Fishery Products

• Discussion Paper on Histamine

• Discussion Paper on a Code of Practice for Fish Sauce

Each issue listed will be fully described in documents distributed, or to be distributed, by the Secretariat prior to the meeting. Members of the public may access these documents (see ADDRESSES).

Public Meeting

At the September 6, 2012, public meeting, draft U.S. positions on the agenda items will be described and discussed, and attendees will have the opportunity to pose questions and offer comments. Written comments may be offered at the meeting or sent to the U.S. Delegates for the 32nd session of CCFFP, Timothy Hansen & Dr. William Jones (see ADDRESSES). Written comments should state that they relate to activities of the 32nd session of the CCFFP.

Additional Public Notification

FSIS will announce this notice online through the FSIS Web page located at http://www.fsis.usda.gov/regulations_&_policies/Federal_Register_Notices/index.asp.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/News_&_Events/Email_Subscription/.

Options range from recalls to export information to regulations, directives, and notices. Customers can add or delete subscriptions themselves, and have the option to password protect their accounts.

USDA Nondiscrimination Statement

USDA prohibits discrimination in all its programs and activities on the basis of race, color, national origin, gender, religion, age, disability, political beliefs, sexual orientation, and marital or family status. (Not all prohibited bases apply to all programs.) Persons with disabilities who require alternative means for communication of program information (Braille, large print, or audiotape.) should contact USDA's Target Center at 202-720-2600 (voice and TTY).

To file a written complaint of discrimination, write USDA, Office of the Assistant Secretary for Civil Rights, 1400 Independence Avenue SW., Washington, DC 20250-9410 or call 202-720-5964 (voice and TTY). USDA is an equal opportunity provider and employer.

Done at Washington, DC on: August 31, 2012.
Karen Stuck,
U.S. Manager for Codex Alimentarius.

[FR Doc. 2012-21989 Filed 9-5-12; 8:45 am]

BILLING CODE 3410-DM-P